OFFICE OF PERSONNEL MANAGEMENT

Submission for OMB Review; Comment Request for Review of a Revised Information Collection; IS-10

AGENCY: U.S. Office of Personnel Management.

ACTION: Notice.

SUMMARY: In accordance with the Paperwork Reduction Act of 1995 (Public Law 104-13)and 5 CFR 1320.5 (a)(I)(iv), this notice announces that OPM has submitted to the Office of Management and Budget, a request for clearance of a revised information collection. The Mail Reinterview Form, IS-10, is completed by individuals who have been interviewed by a contract investigator during the course of a personnel investigation. This form, a quality assurance instrument, asks questions regarding the performance of the investigator.

We estimate that 5700 forms are completed annually. Each form requires approximately 6 minutes to complete. The annual estimated burden is 570 hours.

For copies of this proposal contact Mary Beth Smith-Toomey at (202) 606-8358 or fax (202) 418-3251 or by e-mail to mbtoomey@opm.gov.

DATES: Comments on this proposal should be received on or before April 25, 2001.

ADDRESSES: Send or deliver written comments to:

Richard A. Ferris, Associate Director, Investigations Service, U.S. Office of Personnel Management, Room 5416, 1900 E Street NW., Washington, DC 20415-4000,

and

Joseph Lackey, OPM Desk Officer, Office of Information & Regulatory Affairs, Office of Management & Budget, New Executive Office Building, NW., Room 10235, Washington, DC 20503.

Steven R. Cohen,
Acting Director.

[FR Doc. 01-7385 Filed 3-23-01; 8:45 am]

BILLING CODE 6325-40-P